DEPARTMENT OF THE INTERIOR

Bureau of Indian Affairs

Proclaiming Certain Lands, Gomez Ranch, as an Addition to the Reservation for the Jicarilla Apache Nation, New Mexico

AGENCY: Bureau of Indian Affairs, Interior.

ACTION: Notice of Reservation Proclamation.

SUMMARY: This notice informs the public that the Assistant Secretary—Indian Affairs proclaimed approximately 5,696.64 acres, more or less, as an addition to the Jicarilla Apache Nation Reservation, New Mexico.

FOR FURTHER INFORMATION CONTACT: Ben Burshia, Bureau of Indian Affairs, Division of Real Estate Services, Mail Stop 4639-MIB, 1849 C Street, NW., Washington, DC 20240, telephone (202) 208-7737.

SUPPLEMENTARY INFORMATION: This notice is published in the exercise of authority delegated by the Secretary of the Interior to the Assistant Secretary—Indian Affairs by part 209 of the Departmental Manual.

A proclamation was issued, according with Section 7 of the Act of June 18, 1934 (48 Stat. 986; 25 U.S.C. 467), for the land described below. The land was proclaimed to be an addition to the Jicarilla Apache Nation Reservation for the exclusive use of Indians on that reservation who are entitled to reside at the reservation by enrollment or tribal membership.

New Mexico Principal Meridian

Rio Arriba County, New Mexico

The land descriptions and acreages listed below for Township 31 North, Range 1 East, and Township 31 North, Range 1 West, New Mexico Principal Meridian, are based on the official surveys conducted in 2005 by the U.S. Department of the Interior, Bureau of Land Management, Cadastral Survey, and shown on the official plats of survey and described in the official field note records, all approved December 18, 2006, and filed in the records of the Bureau of Land Management, New Mexico State Office, in Santa Fe, New Mexico.

Township 31 North, Range 1 East, N.M.P.M.

Section 18: NE/4SW/4, W/2SE/4, SE/4SE/4 (Containing 167.09 acres, more or less);

Section 19: Lots 3 and 4, E/2SW/4, SE/4, S/2NE/4, NW/4NE/4, NE/4NW/4 (Containing 496.37 acres, more or less);

Section 27: SW/4 (Containing 159.94 acres, more or less);

Section 28: NW/4SW/4, S/2SW/4 (Containing 124.53 acres, more or less);

Section 29: N/2, NE/4SE/4 (Containing 357.41 acres, more or less);

Section 30: Lots 1, 2, 3 and 4, E/2W/2, NE/4 (Containing 483.91 acres, more or less);

Section 31: Lots 1, 2, 3 and 4, E/2W/2, E/2 (Containing 648.03 acres, more or less);

Section 32: All (Containing 648.22 acres, more or less);

Section 33: All (Containing 641.68 acres, more or less);

Section 34: Lots 5, 6, 7 and 8, SW/4 (Containing 322.46 acres, more or less)

The total area of this tract located in Township 31 North, Range 1 East, N.M.P.M., Rio Arriba County, New Mexico, is 4,049.64 acres, more or less.

Township 31 North, Range 1 West, N.M.P.M.

Section 7: Lot 4, E/2SE/4 (Containing 114.23 acres, more or less);

Section 8: SW/4, N/2SE/4, SW/4SE/4, S/2N/2 (Containing 454.49 acres, more or less);

Section 17: S/2, N/2N/2, S/2NW/4, SW/4NE/4 (Containing 601.61 acres, more or less);

Section 18: Lots 1, 3 and 4, SE/4SW/4, SE/4, SE/4NE/4, NE/4NW/4, N/2NE/4 (Containing 476.67 acres, more or less)

The total area of this tract located in Township 31 North, Range 1 West, N.M.P.M., Rio Arriba County, New Mexico, is 1,647.00 acres, more or less.

The grand total of the above-described lands, containing 5,696.64 acres, more or less, is subject to all valid rights, reservations, rights-of-way, and easements of record.

This proclamation does not affect title to the land described above, nor does it affect any valid existing easement for public roads and highways, public utilities and for railroads and pipelines and any other rights-of-way or reservations of record.

Dated: March 24, 2007.
Carl J. Artman,
Assistant Secretary—Indian Affairs.

[FR Doc. E7-6389 Filed 4-4-07; 8:45 am]

BILLING CODE 4310-W7-P